DEPARTMENT OF HEALTH AND HUMAN SERVICES

National Institutes of Health

Submission for OMB Review; Comment Request; Solar Cell: A Mobile UV Manager for Smart Phones Phase II (NCI)

Summary: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on January 27, 2012 (77 FR 4334) and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Solar Cell: A Mobile UV Manager for Smart Phones Phase II (NCI). Type of Information Collection Request: New. Need and Use of Information Collection: The overall goal of the study is to design a smart phone application, Solar Cell, which uses smart phone technology to aid users in protecting their skin from damaging ultraviolet radiation (UV) in sunlight, a primary cause of skin cancer. The purpose of this part of the study is to produce, deploy, and evaluate the effectiveness of a state-of-the-art software application for smart phones (i.e., mobile application), “Solar Cell.” This software application supports decision-making related to sun protection and exposure by Americans to reduce the risk of developing skin cancer attributable to chronic and severe UV exposure and developing other cancers attributable to vitamin D deficiency. The Solar Cell mobile smart phone application combines personal and behavior data with geo-spatial data (i.e., UV Index forecast, time, and location) and delivers actionable sun protection advice to reduce risk of skin cancer. Frequency of Response: Once. Affected Public: Individuals. Type of Respondents: Adults (18 and over) from the U.S. population who own Android smart phones. The annual reporting burden is estimated at 308 hours (see Table below). There are no Capital Costs, Operating Costs, and/or Maintenance Costs to report.

A.12-1—Estimates of Annual Burden Hours
Type of respondents | Instrument | Number of respondents | Frequency of response | Average time per response (min/hour) | Annual burden hours
Adults | Screener (Appendix G) | 1,875 | 1 | 2/60 | 63
| Pre-test (Appendix A) | 245 | 1 | 20/60 | 82
| Post-test (Appendix B) | 245 | 1 | 40/60 | 163
Totals |  |  |  |  | 308

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Patricia Weber, DrPH, Program Director, NCI/NIH, SBIR Development Center, 6116 Executive Blvd., Suite 402, Rockville, MD 20852 or call non-toll-free number 301-594-8106 or email your request, including your address to: weberpa@mail.nih.gov.

Comments Due Date: Comments regarding this information collection are best assured of having their full effect if received within 30 days of the date of this publication.

Dated: April 9, 2012.
Vivian Horovitch-Kelley,
NCI Project Clearance Liaison, National Institutes of Health.

[FR Doc. 2012-8930 Filed 4-12-12; 8:45 am]

BILLING CODE 4140-01-P